ENVIRONMENTAL PROTECTION AGENCY

[ER-FRL-6610-5]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-D65020-WV Rating LO, Fernow Experimental Forest, Implementation of New Research Studies, Monongahela National Forest Land and Resource Management Plan, Tucker County, WV.

Summary: EPA has no objections to the preferred alternative.

ERP No. D-NPS-G65075-LA Rating LO, Cane River Creole National Historical Park, General Management Plan, Natchitoches Parish, LA.

Summary: EPA has no objection to the selection of the National Park Service preferred alternative as described in the DEIS.

ERP No. D-NPS-K61150-CA Rating LO, Anacapa Island Restoration Project, Implementation Implementation, Channel Islands National Park, Ventura County, CA.

Summary: While EPA has no objection to the proposed action, it requested that the Final EIS include an emergency response plan for accidental spill of rodenticide during bait application and a commitment to project monitoring and mitigation.

Final EISs

ERP No. F-BLM-L65338-OR John Day River Proposed Management Plan, Implementation, Two Rivers and John Day Resource Management Plan Amendments, John Day River Basin, Gilliam, Grant, Wheeler, Crook, Harney, Jefferson, Morrow, Sherman, Umatilla, Union and Wasco Counties, OR.

Summary: No formal comment letter was sent to the preparing agency.

ERP No. F-IBR-K28020-CA Contra Costa Water District Multi-Purpose Pipeline (MPP) Project, Construction and Operation of Raw Water Delivery System, Contra Costa Canal, COE Section 10 and 404 Permits, Contra Costa County, CA.

Summary: No formal comment letter was sent to the preparing agency.

Dated: August 22, 2000.
Joseph C. Montgomery,
Director, NEPA Compliance Division, Office of Federal Activities.

[FR Doc. 00-21786 Filed 8-24-00; 8:45 am]

BILLING CODE 6560-50-P